FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201288-005.

Agreement Name: Digital Container Shipping Association Agreement.

Parties: CMA CGM S.A.; Evergreen Marine Corporation; Hapag-Lloyd AG; Hyundai Merchant Marine Co., Ltd.; Maersk A/S; Mediterranean Shipping Company S.A.; Ocean Network Express Pte. Ltd.; Yang Ming Marine Transport Corporation; and Zim Integrated Shipping Services Ltd.

Filing Party: Wayne Rohde; Cozen O'Connor.

Synopsis: The amendment authorizes the parties to develop and offer products and services in addition to standards. It also revises some of the governance procedures for the association and restates the Agreement.

Proposed Effective Date: 7/31/2022.

Location: https://www2.fmc.gov/FMC.Agreements.Web/Public/AgreementHistory/21328.

Dated: June 16, 2022.
William Cody,
Secretary.

[FR Doc. 2022-13367 Filed 6-22-22; 8:45 am]

BILLING CODE 6703-02-P